DEPARTMENT OF TRANSPORTATION

Federal Aviation Administration

RTCA Special Committee 189/EUROCAE Working Group 53: Air Traffic Services (ATS) Safety and Interoperability Requirements

AGENCY: Federal Aviation Administration (FAA), DOT.

ACTION: Notice of RTCA special committee 189/EUROCAE working group 53 meeting.

SUMMARY: The FAA is issuing this notice to advise the public of a meeting of RTCA Special Committee 189/EUROCAE Working Group 53: Air Traffic Services (ATS) Safety and Interoperability Requirements.

DATES: The meeting will be held January 13-17, 2003 starting at 9 a.m.

ADDRESSES: The meeting will be held at STNA Headquarters, Room A06 and A209, 1 avenue du Dr Maurice Grynfogel, F-31035 Toulouse, France.

FOR FURTHER INFORMATION CONTACT: (1) RTCA Secretariat, 1828 L Street, NW., Suite 805, Washington, DC, 20036, (202) 833-9339; fax (202) 833-9434; Web site http://www.rtca.org; (2) STNA—Anne Marie Charron; (Phone) +33 5 62 14 58 81; (Fax) +33 5 62 14 58 53

SUPPLEMENTARY INFORMATION: Pursuant to section 10(a)(2) of the Federal Advisory Committee Act (Pub. L. 92-463, 5 U.S.C., Appendix 2), notice is hereby given for a Special Committee 189/EUROCAE Working Group 53 meeting.

Note: To expedite entry into the STNA facility, a registration form must be completed. All foreign visitors must be registered. The registration form is available from RTCA. For other useful information, visit the STNA Web Site at http://www.stna.dgac.fr/gb/pratique_gb/frpratique_gb.html.

The plenary agenda will include:

• January 13

• Opening Plenary Session (Welcome and Introductory Remarks, Review/Approval of Meeting Agenda, Review/Approval of Meeting Minutes).

• Sub-group and related reports.

• Position papers planned for plenary agreement.

• SC-189/WG-53 co-chair progress report.

• January 14-16

• Subgroup Meetings—Review of PU-26 V2.0.

• January 17

• Closing Plenary Session (Introductory Remarks, Review/Approval of Meeting Agenda).

• Sub-group and related reports.

• Position papers planned for plenary agreement.

• SC-189/WG-53 co-chair progress report and wrap-up.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 18, 2002.
Janice L. Peters,
FAA Special Assistant, RTCA Advisory Committee.

[FR Doc. 02-32411 Filed 12-23-02; 8:45 am]

BILLING CODE 4910-13-M